DEPARTMENT OF ENERGY

Federal Energy Regulatory Commission

[Project No. 11541-001]

Atlanta Power Company—Idaho; Notice of Availability of Final Environmental Assessment

January 22, 2002.

In accordance with the National Environmental Policy Act of 1969 and the Federal Energy Regulatory Commission's (Commission) regulations, 18 CFR part 380 (Order No. 486, 52 FR 47897), the Office of Energy Projects has reviewed the application for an original license for the Atlanta Power Station Hydroelectric Project, and has prepared a Final Environmental Assessment (FEA). The operating project is located on the Middle Fork Boise River near the town of Atlanta (75 miles from the nearest populated area), in Elmore County, Idaho. Water to operate the run-of-river project is diverted at Kirby dam which is owned and operated by the U.S. Forest Service (FS). The project occupies about 3.3 acres of land within the Boise National Forest, administered by the FS.

On August 3, 2000, the Commission staff issued a draft environmental assessment (DEA) for the project and requested that comments be filed with the Commission within 30 days. Comments on the DEA were filed by the FS, the United States Department of the Interior (Fish and Wildlife Service), Idaho Department of Fish and Game, and Idaho Rivers United and are addressed in the FEA.

The FEA contains the staff's analysis of the potential environmental impacts of the project and concludes that licensing the project, with appropriate environmental protective measures, would not constitute a major federal action that would significantly affect the quality of the human environment.

Copies of the FEA are available for review in the Public Reference Room, Rm. 2A, of the Commission's offices at 888 First Street, NE., Washington, DC 20426. Copies of this filing are on file with the Commission and are available for public inspection and may also be viewed on the web at http://www.ferc.gov using the “RIMS” link, select “Docket#” and follow the instructions (call 202-208-2222 for assistance).

Linwood A. Watson, Jr.,
Acting Secretary.

[FR Doc. 02-1995 Filed 1-25-02; 8:45 am]

BILLING CODE 6717-01-P